DEPARTMENT OF DEFENSE

Department of the Army

Army Education Advisory Committee

AGENCY: Department of the Army, DoD.

ACTION: Notice of meeting.

SUMMARY: In accordance with section 10(a)(2) of the Federal Advisory Committee Act (5 U.S.C. App. I), announcement is made of the following Committee meeting:

Name of Committee: U.S. Army War College Subcommittee of the Army Education Advisory Committee.

Dates of Meeting: April 3, 4, and 5, 2002.

Place: Root Hall, U.S. Army War College, Carlisle Barracks, Pennsylvania.

Time: 8:30 a.m.—5:00 p.m.

Proposed Agenda: Receive information briefings; conduct discussions with the Commandant and staff and faculty; table and examine online College issues and fund raising strategies and models; assess resident and distance education programs, institutional and campus transformation, and plans for the Process for Accreditation of Joint Education (PAJE) 2003; assemble into small working groups for a concentrated review of institutional policies and committee membership and charter issues; propose strategies and recommendations that will continue the momentum of federal accreditation success and guarantee compliance with regional accreditation standards.

FOR FURTHER INFORMATION CONTACT: To request advance approval or obtain further information, contact Colonel Robert E. Smith, Box 545, U.S. Army War College, Carlisle Barrack, PA 17013 or telephone (717) 245-3907.

SUPPLEMENTARY INFORMATION: This meeting is open to the public. Any interested person may attend, appear before, or file statements with the Committee after receiving advance approval for participation.

To request advance approval or obtain further information, contact Colonel Robert E. Smith at the above address or phone number.

Robert E. Smith,
Colonel, U.S. Army, Designated Federal Official.

[FR Doc. 02-4184 Filed 2-20-02; 8:45 am]

BILLING CODE 3710-08-M